DEPARTMENT OF JUSTICE

Antitrust Division

Notice Pursuant to the National Cooperative Research and Production Act of 1993—Naval Energetic Systems and Technologies Enterprise Consortium

Notice is hereby given that, on October 5, 2020, pursuant to Section 6(a) of the National Cooperative Research and Production Act of 1993, 15 U.S.C. 4301 et seq. (“the Act”), the Naval Energetic Systems and Technologies Enterprise Consortium (“NEC”) has filed written notifications simultaneously with the Attorney General and the Federal Trade Commission disclosing (1) the identities of the parties to the venture, and (2) the nature and objectives of the venture. The notifications were filed for the purpose of invoking the Act's provisions limiting the recovery of antitrust plaintiffs to actual damages under specified circumstances.

Pursuant to Section 6(b) of the Act, the identities of the parties to the venture are: Fathom 4, LLC, Charleston, SC; Logistic Services International, Inc., Jacksonville, FL; Milwaukee School of Engineering, Milwaukee, WI; Netorian, LLC, Aberdeen, MD; SIA Solutions, Baltimore, MD; and Tiburon Associates, Inc., Grand Rapids, MI.

The general area of NEC's planned activity is (a) to collaborate with the U.S. Navy to conduct coordinated research, prototype development and follow-on production of technologies that address current and future security threats in the surface, subsurface, littoral and expeditionary environments (“NEC Mission”) through the use of an Other Transaction Agreement (“OTA”) with the U.S. Government (“Government”). These efforts will enhance the capabilities of the Government and its departments and agencies in the development of prototypes and full production thereof in the naval energetic systems and technologies field; (b) to participate in the establishment of sound technical and programmatic performance goals based on the technical needs and the requirements of the Government; (c) to provide a unified voice to effectively articulate the global and strategically important role the NEC Mission plays in furthering national security objectives; and (d) to maximize the utilization of the Government's and NEC Members' capabilities to effectively develop critical technologies which can be transitioned to the U.S. Navy and commercialized.

Suzanne Morris,
Chief, Premerger and Division Statistics Antitrust Division.

[FR Doc. 2020-22861 Filed 10-14-20; 8:45 am]

BILLING CODE P